ENVIRONMENTAL PROTECTION AGENCY

[EPA-HQ-OW-2011-0439; EPA-HQ-OW-2011-0442; EPA-HQ-OW-2011-0443; FRL-9429-6]

Agency Information Collection Activities; Proposed Collection; Comment Request; Disinfectants/Disinfection Byproducts, Chemical and Radionuclides; Microbial; and Public Water System Supervision Program

AGENCY: Environmental Protection Agency (EPA).

ACTION: Notice.

SUMMARY: In compliance with the Paperwork Reduction Act (PRA) (44 U.S.C. 3501 et seq.), this document announces that EPA is planning to submit a request to renew existing approved Information Collection Requests (ICRs) to the Office of Management and Budget (OMB). The ICRs scheduled to expire are Disinfectants/Disinfection Byproducts, Chemical and Radionuclides Rules ICR expires on December 31, 2011; Microbial Rules ICR expires on April 30, 2012; and Public Water System Supervision ICR expires on March 31, 2012. Before submitting the ICR to OMB for review and approval, EPA is soliciting comments on specific aspects of the proposed information collection as described below.

DATES: Comments must be submitted on or before September 6, 2011.

ADDRESSES: Submit your comments, identified by the Docket ID EPA-HQ-OW-2011-0439 (Disinfectants/Disinfection Byproducts, Chemical and Radionuclides Rules); EPA-HQ-OW-2011-0442 (Microbial Rules); and EPA-HQ-OW-2011-0443 (Public Water System Supervision), by one of the following methods:

• http://www.regulations.gov: Follow the on-line instructions for submitting comments.

• E-mail: OW-Docket@epa.gov

• Mail: Water Docket, US Environmental Protection Agency, EPA Docket Center (EPA/DC), Water Docket, MC: 28221T, 1200 Pennsylvania Ave., NW., Washington, DC 20460.

• Hand Delivery: EPA Docket Center, Public Reading Room, EPA Headquarters West Building, Room 3334, 1301 Constitution Ave., NW., Washington, DC. Such deliveries are only accepted during the Docket's normal hours of operation, and special arrangements should be made for deliveries of boxed information.

Instructions: Direct your comments identified by the Docket ID numbers identified in the ADDRESSES section for each item in the text. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Matthew Reed, Drinking Water Protection Division, Office of Ground Water and Drinking Water, (4606M), Environmental Protection Agency, 1200 Pennsylvania Ave., NW., Washington, DC 20460; telephone number: 202-564-4719; e-mail address: reed.matthew@epa.gov.

SUPPLEMENTARY INFORMATION:

How can I access the docket and/or submit comments?

EPA has established a public docket for each of the ICRs identified in the ADDRESSES section, which are available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from small public water systems (those that serve less than 10,000 customers) on examples of specific additional efforts that EPA could make to reduce the paperwork burden for small public water systems affected by this collection. The small public water systems include community water systems, and non-transient non-community water systems such as schools and hospitals, in addition to transient non-community water systems such as restaurants and campgrounds.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Docket ID No. EPA-HQ-OW-2011-0439.

Affected entities: Entities potentially affected by this action are new and existing public water systems (PWS), primacy agencies, and EPA.

Title: Disinfectants/Disinfection Byproducts, Chemical, and Radionuclides Rules (Renewal).

ICR numbers: EPA ICR No. 1896.09, OMB Control No. 2040-0204.

ICR status: This ICR is currently scheduled to expire on December 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Disinfectants/Disinfection Byproducts, Chemical and Radionuclides Rules ICR examines PWS, primacy agency and EPA burden and costs for recordkeeping and reporting requirements in support of the chemical drinking water regulations. These recordkeeping and reporting requirements are mandatory for compliance with 40 CFR parts 141 and 142. The following chemical regulations are included: Stage 1 Disinfectants and Disinfection Byproducts Rule (Stage 1 DBPR), Stage 2 Disinfectants and Disinfection Byproducts Rule (Stage 2 DBPR), Chemical Phase Rules (Phases II/IIB/V), 1976 Radionuclides Rule and 2000 Radionuclides Rule, Total Trihalomethanes (TTHM) Rule, Disinfectant Residual Monitoring and Associated Activities under the Surface Water Treatment Rule, Arsenic Rule, Lead and Copper Rule (LCR) and revisions. Future chemical-related rulemakings will be added to this consolidated ICR after the regulations are finalized and the initial, rule-specific, ICRs are due to expire.

Burden Statement: The annual public reporting and recordkeeping burden for this collection of information is estimated to average 0.40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 246,048.

Frequency of response: varies by requirement (i.e., on occasion, monthly, quarterly, semi-annually, annually, biennially, and every 3, 6, and 9 years).

Estimated total average number of responses for each respondent: varies by requirement.

Estimated total annual burden hours: 6,987,131 hours.

Estimated total annualized capital/startup costs: $6,918,000.

Estimated total annual maintenance and operational costs: $203,672,204.

Are there changes in the estimates from the last approval?

There is no estimated increase or decrease of hours in the total estimated respondent burden compared with that identified in the ICR currently approved by OMB.

What information collection activity or ICR does this apply to?

Docket ID No. EPA-HQ-OW-2011-0442.

Affected entities: Entities potentially affected by this action are new and existing public water systems (PWS), primacy agencies, and EPA.

Title: Microbial Rules (Renewal).

ICR numbers: EPA ICR No. 1895.07, OMB Control No. 2040-0205

ICR status: This ICR is currently scheduled to expire on April 30, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Microbial Rules Renewal ICR examines PWS, primacy agency and EPA burden and costs for recordkeeping and reporting requirements in support of the microbial drinking water regulations. These recordkeeping and reporting requirements are mandatory for compliance with 40 CFR parts 141 and 142. The following microbial regulations are included: Surface Water Treatment Rule (SWTR), Total Coliform Rule (TCR), Interim Enhanced Surface Water Treatment Rule (IESWTR), Filter Backwash Recycling Rule (FBRR), Long Term 1 Enhanced Surface Water Treatment Rule (LT1ESWTR), Long Term 2 Enhanced Surface Water Treatment Rule (LT2ESWTR), Ground Water Rule, and the Aircraft Drinking Water Rule. Although the Aircraft Drinking Water Rule has a stand-alone ICR at this time, it is being included into the Microbial ICR due to the nature of information collected. The information collected for the Aircraft Drinking Water Rule is directly correlated to information collected under the Total Coliform Rule, and therefore is appropriate to be included in the Microbial ICR. Future microbial-related rulemakings will be added to this consolidated ICR after the regulations are finalized and the initial, rule-specific, ICRs are due to expire.

Burden Statement: The annual public reporting and recordkeeping burden for this collection of information is estimated to average 0.79 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 161,337.

Frequency of response: Varies by requirement (i.e., on occasion, monthly, quarterly, semi-annually, and annually.

Estimated total average number of responses for each respondent: 72.

Estimated total annual burden hours: 9,172,188 hours.

Estimated total annualized capital/startup costs: $32,888,601.

Estimated total annual maintenance and operational costs: $88,222,000.

Are there changes in the estimates from the last approval?

There is an increase of 17,583 hours in the total estimated respondent burden compared with that identified in the ICR currently approved by OMB. This increase reflects EPA's inclusion of the information collection requirements of the Aircraft Drinking Water Rule, which was previously a stand-alone ICR.

What information collection activity or ICR does this apply to?

Docket ID No. EPA-HQ-OW-2011-0443.

Affected entities: Entities potentially affected by this action are new and existing public water systems (PWS), primacy agencies, and EPA.

Title: Public Water System Supervision Program (Renewal).

ICR numbers: EPA ICR No. 0270.45, OMB Control No. 2040-0090.

ICR status: This ICR is currently scheduled to expire on March 31, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Public Water System Supervision (PWSS) Program Renewal ICR examines PWS, primacy agency, EPA, and tribal operator certification provider burden and costs for “cross-cutting” recordkeeping and reporting requirements (i.e., the burden and costs for complying with drinking water information requirements that are not associated with contaminant-specific rulemakings). These activities which have record keeping and reporting requirements that are mandatory for compliance with 40 CFR parts 141 and 142 include the following: Consumer Confidence Reports (CCRs), Primacy Regulation Activities, Variance and Exemption Rule (V/E Rule), General State Primacy Activities, Public Notification (PN) and Proficiency Testing Studies for Drinking Water Laboratories. The information collection activities for both the Operator Certification/Expense Reimbursement Program and the Capacity Development Program are driven by the grant withholding and reporting provisions under Sections 1419 and 1420, respectively, of the Safe Drinking Water Act. Although the Tribal Operator Certification Program is voluntary, the information collection is driven by grant eligibility requirements outlined in the Drinking Water Infrastructure Grant Tribal Set-Aside Program Final Guidelines and the Tribal Drinking Water Operator Certification Program Guidelines.

Burden Statement: The annual public reporting and recordkeeping burden for this collection of information is estimated to average 6.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 161,682.

Frequency of response: Varies by requirement (i.e., on occasion, monthly, quarterly, semi-annually, and annually).

Estimated total average number of responses for each respondent: 3.1.

Estimated total annual burden hours: 3,249,695 hours.

Estimated total annual costs: $119,174,000. This includes an estimated burden cost of $97,636,000 and an estimated cost of $21,538,000 for capital investment or maintenance and operational costs.

Are there changes in the estimates from the last approval?

There is no estimated increase or decrease of hours in the total estimated respondent burden compared with that identified in the ICR currently approved by OMB.

What is the next step in the process for these ICRs?

EPA will consider the comments received and amend the ICRs as appropriate. The final ICR packages will then be submitted to OMB for review and approval pursuant to 5 CFR 1320.12. At that time, EPA will issue another Federal Register notice pursuant to 5 CFR 1320.5(a)(1)(iv) to announce the submission of the ICRs to OMB and the opportunity to submit additional comments to OMB. If you have any questions about these ICRs or the approval process, please contact the technical person listed under FOR FURTHER INFORMATION CONTACT.

Dated: June 28, 2011.
Ronald W. Bergman,
Acting Director, Office of Ground Water and Drinking Water.

[FR Doc. 2011-16731 Filed 7-1-11; 8:45 am]

BILLING CODE 6560-50-P